DEPARTMENT OF AGRICULTURE

Forest Service

Establishment of Stumpy Point Purchase Unit, Phillips and Lee Counties, AR

Correction

In notice document 02-28757 beginning on page 68831 in the issue of Wednesday, November 13, 2002, make the following correction:

On page 68831, in the third column, the subject heading is correct to read as set forth above.

[FR Doc. C2-28757 Filed 11-19-02; 8:45 am]

BILLING CODE 1505-01-D

DEPARTMENT OF TRANSPORTATION

Research and Special Programs Administration

49 CFR Part 195

[Docket No. RSPA-97-2762; Amdt. 195-73]

RIN 2137-AD24

Controlling Corrosion on Hazardous Liquid and Carbon Dioxide Pipelines

Correction

In rule document 01-31655 beginning on page 66994 in the issue of Thursday, December 27, 2001, make the following correction:

§ 195.573 [Corrected]

On page 67006, in § 195.573 (c), in the first column, the table is corrected to read as set forth below.

Device | Check frequency
Rectifier | At least six times each calendar year, but with intervals not exceeding 2½ months.
Reverse current switch |
Diode |
Interference bond whose failure would jeopardize structural protection |
Other interference bond | At least once each calendar year, but with intervals not exceeding 15 months.

[FR Doc. C1-31655 Filed 11-19-02; 8:45 am]

BILLING CODE 1505-01-D